DEPARTMENT OF THE TREASURY

Internal Revenue Service

26 CFR Part 1

[REG-208270-86]

RIN 1545-AM12

Income and Currency Gain or Loss With Respect to a Section 987 QBU; Hearing Cancellation

AGENCY: Internal Revenue Service (IRS), Treasury.

ACTION: Cancellation of notice of public hearing on proposed rulemaking.

SUMMARY: This document cancels a public hearing on proposed regulations concerning the determination of the items of income or loss of a taxpayer with respect to a section 987 qualified business unit, as well as the timing, amount, character and source of any section 987 gain or loss.

DATES: The public hearing, originally scheduled for November 21, 2006, at 10 a.m. is cancelled.

FOR FURTHER INFORMATION CONTACT: Kelly Banks of the Publications and Regulations Branch, Legal Processing Division, Associate Chief Counsel (Procedure and Administration) at (202) 622-0392 (not a toll-free number).

SUPPLEMENTARY INFORMATION: A notice of proposed rulemaking and notice of public hearing that appeared in the Federal Register on Thursday, September 7, 2006 (71 FR 52876), announced that a public hearing was scheduled for November 21, 2006, at 10 a.m. in the IRS Auditorium, New Carrollton Federal Building, 5000 Ellin Road, Lanham, MD 20706. The subject of the public hearing is under section 987 of the Internal Revenue Code.

The public comment period expires on December 6, 2006. The notice of proposed rulemaking and notice of public hearing instructed those interested in testifying at the public hearing to submit an outline of the topics to be addressed. As of Wednesday, November 1, 2006, no one has requested to speak. Therefore, the public hearing scheduled for November 21, 2006, is cancelled.

Cynthia Grigsby,
Senior Federal Register Liaison, Publications and Regulations Branch, Legal Processing Division, Associate Chief Counsel (Procedure and Administration).

[FR Doc. E6-19138 Filed 11-13-06; 8:45 am]

BILLING CODE 4830-01-P